DEPARTMENT OF TRANSPORTATION

Federal Railroad Administration

[Docket No. FRA-2017-0002-N-14]

Proposed Agency Information Collection Activities; Comment Request

AGENCY: Federal Railroad Administration (FRA), U.S. Department of Transportation.

ACTION: Notice and request for comments.

SUMMARY: Under the Paperwork Reduction Act of 1995 (PRA) and its implementing regulations, FRA seeks approval of the information collection activity listed below. Before submitting this information collection request (ICR) to the Office of Management and Budget (OMB) for approval, FRA is soliciting public comment on specific aspects of the activity identified in this notice.

DATES: Comments must be received no later than June 12, 2017.

ADDRESSES: Submit written comments on any or all of the following proposed activities by mail to either: Mr. Robert Brogan, Information Collection Clearance Officer, Office of Railroad Safety, Regulatory Analysis Division, RRS-21, Federal Railroad Administration, 1200 New Jersey Avenue SE., Mail Stop 25, Washington, DC 20590; or Ms. Kim Toone, Information Collection Clearance Officer, Office of Information Technology, RAD-20, Federal Railroad Administration, 1200 New Jersey Avenue SE., Mail Stop 35, Washington, DC 20590. Commenters requesting FRA acknowledge receipt of their respective comments must include a self-addressed stamped postcard stating, “Comments on OMB Control Number 2130-0617,” and should also include the title of the collection of information. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292) or Ms. Kim Toone, Information Collection Clearance Officer, Office of Information Technology, RAD-20, Federal Railroad Administration, 1200 New Jersey Avenue SE., Mail Stop 35, Washington, DC 20590 (telephone: (202) 493-6132). (These telephone numbers are not toll free.)

SUPPLEMENTARY INFORMATION: The PRA, 44 U.S.C. 3501-3520, and its implementing regulations, 5 CFR part 1320, require Federal agencies to provide 60-days' notice to the public to allow comment on information collection activities before seeking OMB approval to implement them. See 44 U.S.C. 3506(c)(2)(A); 5 CFR 1320.8(d)(1), 1320.10(e)(1), 1320.12(a). Specifically, FRA invites interested respondents to comment on the following summary of renewed information collection activity regarding: (1) Whether the information collection activity is necessary for FRA to properly execute its functions, including whether the activities will have practical utility; (2) the accuracy of FRA's estimates of the burden of the information collection activity, including the validity of the methodology and assumptions used to determine the estimates; (3) ways for FRA to enhance the quality, utility, and clarity of the information being collected; and (4) ways for FRA to minimize the burden of information collection activity on the public by automated, electronic, mechanical, or other technological collection techniques and other forms of information technology (e.g., permitting electronic submission of responses). See 44 U.S.C. 3506(c)(2)(A); 5 CFR 1320.8(d)(1).

FRA believes soliciting public comment will promote its efforts to reduce the administrative and paperwork burdens associated with the collection of information. In summary, FRA reasons that comments received will advance three objectives: (1) Reduce reporting burdens; (2) ensure it organizes information collection requirements in a “user-friendly” format to improve the use of such information; and (3) accurately assess the resources expended to retrieve and produce information requested. See 44 U.S.C. 3501.

Below is a brief summary of the currently approved information collection activity that FRA will submit for renewed clearance by OMB as required under the PRA:

Title: Survey of Plant and Insular Tourist Railroads Subject to FRA Bridge Safety Standards (49 CFR part 237).

OMB Control Number: 2130-0617.

Abstract: Bridge Safety Standards regulations (49 CFR part 237) require all owners of railroad track with a gage of 2 feet or more supported by a bridge to comply with this part. This includes track owners with bridges located within an industrial installation (plant) that is not part of the general railroad system of transportation (general system) but over which a general system railroad operates. Currently, FRA relies on the railroad accident/incident reports (49 CFR part 225), to identify track owners subject to the requirements of part 237, Bridge Safety Standards. However, plant and insular tourist railroads are exempt from part 225 (Railroad Accidents/Incidents: Reports Classification, and Investigations). This information collection request will close this data gap.

FRA is requesting any railroad serving a plant and moving railroad equipment over bridges within the plant, or the plant itself, to advise FRA by email if there are railroad bridges within the plant potentially subject to FRA Bridge Safety Standards. FRA is also requesting insular tourist railroads whose tracks are supported by one or more bridges, to advise FRA of the existence of their bridges by email.¹

¹ As explained in FRA's jurisdiction policy published at 49 CFR part 209, appendix A, FRA considers a tourist operation to be insular if its operations are limited to a separate enclave in such a way that there is no reasonable expectation that the safety of any member of the public—except a business guest, a licensee of the tourist operation or an affiliated entity, or a trespasser—would be affected by the operation. FRA does not consider a tourist operation to be insular if it has a bridge over a public road or waters used for commercial navigation or if it shares a common corridor with another railroad (i.e., its operations are within 30 feet of those of another railroad).

The email notification should include the name of the plant, installation, or insular tourist railroad, and address (including city and State, contact name, telephone number, and email address). This survey is ongoing with approval requested for 3 years.

FRA wants to identify plant and insular tourist railroads that may be subject to part 237 requirements, but are exempt from the part 225 reporting requirement, to determine risks to railroad safety bridges on these railroads pose and aid in planning oversight activities.

Form Number(s): N/A.

Affected Public: Businesses.

Respondent Universe: 689 railroads.

Frequency of Submission: On occasion.

Affected Public: Businesses.

Reporting Burden:

Form | Total number respondents (railroads) | Time per response (minutes) | Total number responses | Total burden (hours)
Email | 689 | 15 | 210 | 53

Total Estimated Annual Responses: 210.

Total Estimated Annual Burden: 53 hours.

Type of Request: Extension of a Currently Approved Collection.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-07219 Filed 4-10-17; 8:45 am]

BILLING CODE 4910-06-P